DEPARTMENT OF COMMERCE

Bureau of Industry and Security

Firearms Convention

ACTION: Proposed collection: Request for comments.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before December 12, 2005.

ADDRESSES: Direct all written comments to Diana Hynek, (202) 482-0266, Departmental Paperwork Clearance Officer, Department of Commerce, Room 6625, 14th and Constitution Avenue, NW., Washington, DC 20230. (or via internet at DHynek@doc.gov.).

FOR FURTHER INFORMATION CONTACT: Requests for additional information or copies of the information collection instrument(s) and instructions should be directed to Larry Hall, BIS ICB Liaison, (202) 482-4895, Department of Commerce, Room 6703, 14th and Constitution Avenue, NW, Washington, DC 20230.

SUPPLEMENTARY INFORMATION:

I. Abstract

This collection is required to implement the Firearms Convention. The first requirement is for U.S. exporters to acquire an Import Certificate from the government of the importing country. The U.S. exporter provides the certificate number to BIS and retains the certificate in company records. The Import Certificate is essential to the prevention of the spread of illicit firearms. The second requirement is the imposition of a licensing requirement for Firearms Convention items destined to Canada, a Convention Signatory. Previously, U.S. exporters exported such items for Canada without a license. The United States already required a license for the export of such items to the other Convention Signatories.

II. Method of Collection

Submission to BIS.

III. Data

OMB Number: 0694-0114.

Form Number: N/A.

Type of Review: Regular submission for extension of a currently approved collection.

Affected Public: Businesses or other for-profit institutions.

Estimated Number of Respondents: 1,100.

Estimated Time Per Response: 30 minutes per response.

Estimated Total Annual Burden Hours: 550.

Estimated Total Annual Cost: No start-up capital expenditures.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they will also become a matter of public record.

Dated: October 6, 2005.
Madeleine Clayton,
Management Analyst, Office of the Chief Information Officer.

[FR Doc. 05-20473 Filed 10-12-05; 8:45 am]

BILLING CODE 3510-33-P